DEPARTMENT OF DEFENSE

Department of the Army, Corps of Engineers

Notice of the First Meeting of the Federal Advisory Committee Known as the Western Water Cooperative Committee

AGENCY: Corps of Engineers, Department of the Army, DoD.

ACTION: Notice.

SUMMARY: The Western Water Cooperative Committee, a Federal Advisory Committee, provides a forum for discussions between the Corps and Western States regarding the operation of Corps projects and water rights and water laws of Western States. The first meeting of the Western Water Cooperative Committee will be an online virtual meeting on September 4, 2025. This meeting is open to the public.

DATES: The Western Water Cooperative Committee will conduct an online virtual meeting from 2:00 p.m. EDT to 4:00 p.m. on Thursday, September 4, 2025.

ADDRESSES: For additional information about the Committee, please visit the committee's website at https://www.usace.army.mil/Missions/Civil-Works/Project-Planning/Legislative-Links/WRDA-2022/Western-Water-Cooperative-Committee/. The Western Water Cooperative Committee will be an online virtual meeting. Comments or requests to speak at the meeting should be submitted in writing to: The Designated Federal Officer (DFO) for the committee: Mr. Sean L. Smith, ATTN: CEEC, 441 G St. NW, Washington, DC 20314-1000; or by email at WWCC@usace.army.mil. Alternatively, contact the Alternate Designated Federal Officer (ADFO): Ms. Virginia K. Rynk, ATTN: CEEC, 441 G St. NW, Washington, DC 20314-1000; or by email at WWCC@usace.army.mil.

Information for the online virtual meeting can be accessed at the committee's website.

FOR FURTHER INFORMATION CONTACT: The DFO for the committee: Mr. Sean L. Smith, by telephone at 202-761-0301; and by email at WWCC@usace.army.mil; or the ADFO, Ms. Virginia K. Rynk by telephone at 202-761-4741; and by email at WWCC@usace.army.mil.

SUPPLEMENTARY INFORMATION: The committee meeting is being held under the provisions of the Federal Advisory Committee Act of 1972 (5 U.S.C., Appendix, as amended), the Government in the Sunshine Act of 1976 (5 U.S.C. 552b, as amended), and 41 CFR 102-3.150.

Purpose of the Meeting: The committee is chartered to ensure that the U.S. Army Corps of Engineers flood control projects in Western States, as described in section 8158(b) of the James M. Inhofe National Defense Authorization Act for FY2023, are operated consistent with congressional directives by identifying opportunities to avoid or minimize conflicts between the operation of the U.S. Army Corps of Engineers projects and water rights and water laws in such States. This is the first meeting of the committee and will focus on the administrative details of committee, and identification of the next meeting date to begin the discussions the committee is charged with conducting.

Agenda: At this meeting the agenda will include the introductions of the approved committee members, explanation of what a Federal Advisory Committee is, the committee charge, election of the Chair and Vice-Chair for the committee, discuss the meeting date and location for the next meeting, and the process for determining agenda items.

Availability of Materials for the Meeting: A copy of the agenda or any updates to the agenda for the September 4, 2025 virtual meeting will be available on the website. All materials will be posted to the website after the meeting.

Public Accessibility to the Meeting: Pursuant to 5 U.S.C. 552b, as amended, and 41 CFR 102-3.140 through 102-3.165, this virtual meeting is open to the public. Any interested person may participate in the meeting, file written comments or statements with the committee, or make verbal comments during the virtual public meeting, at the times, and in the manner, permitted by the committee, as set forth below.

Special Accommodations: Individuals requiring any special accommodations related to the virtual public meeting or seeking additional information about the procedures, should contact Mr. Smith, the committee DFO, or Ms. Rynk, an ADFO, at the email addresses or telephone numbers listed in the FOR FURTHER INFORMATION CONTACT section, at least five (5) business days prior to the meeting so that appropriate arrangements can be made.

Written Comments or Statements: Pursuant to 41 CFR 102-3.105(j) and 102-3.140 and section 10(a)(3) of the Federal Advisory Committee Act, the public or interested organizations may submit written comments or statements to the Committee about its mission and/or topics to be addressed in this virtual public meeting. Written comments or statements should be submitted to Mr. Smith, the committee DFO, or Ms. Rynk, a committee ADFO, via electronic mail, the preferred mode of submission, at the addresses listed in the FOR FURTHER INFORMATION CONTACT section in the following formats: Adobe Acrobat or Microsoft Word. The comment or statement must include the author's name, title, affiliation, address, and daytime phone number. Written comments or statements being submitted in response to the agenda set forth in this notice must be received by the committee DFO or ADFO at least five (5) business days prior to the meeting so that they may be made available to the committee for its consideration prior to the meeting. Written comments or statements received after this date may not be provided to the committee until its next meeting. Please note that because the committee operates under the provisions of the Federal Advisory Committee Act, as amended, all written comments will be treated as public documents and will be made available for public inspection.

Verbal Comments: Members of the public will be permitted to make verbal comments during the virtual public meeting only at the time and in the manner allowed herein. If a member of the public is interested in making a verbal comment at the open virtual meeting, that individual must submit a request, with a brief statement of the subject matter to be addressed by the comment, at least three business (3) days in advance to the committee DFO or ADFO, via electronic mail, the preferred mode of submission, at the addresses listed in the FOR FURTHER INFORMATION CONTACT section. The committee DFO and ADFO will log each request to make a comment, in the order received, and determine whether the subject matter of each comment is relevant to the committee's mission and/or the topics to be addressed in this public meeting. A 15-minute period near the end of the meeting will be available for verbal public comments. Members of the public who have requested to make a verbal comment and whose comments have been deemed relevant under the process described above, will be allotted no more than three (3) minutes during this period, and will be invited to speak in the order in which their requests were received by the DFO and ADFO.

Thomas P. Smith,
Director, Engineering and Construction Directorate, Corps of Engineers.

[FR Doc. 2025-15755 Filed 8-18-25; 8:45 am]

BILLING CODE 3720-58-P